OFFICE OF PERSONNEL MANAGEMENT

Senior Executive Service-Performance Review Board

AGENCY: Office of Personnel Management.

ACTION: Notice.

SUMMARY: Notice is hereby given of the appointment of members of the OPM Performance Review Board.

FOR FURTHER INFORMATION CONTACT: Carmen Garcia, OPM Human Resources, Office of Personnel Management, 1900 E Street NW, Washington, DC 20415, (202) 606-1048.

SUPPLEMENTARY INFORMATION: Section 4314(c)(1) through (5) of Title 5, U.S.C., requires each agency to establish, in accordance with regulations prescribed by the Office of Personnel Management, one or more SES performance review boards. The board reviews and evaluates the initial appraisal of a senior executive's performance by the supervisor and considers recommendations to the appointing authority regarding the performance of the senior executive.

Office of Personnel Management.
Alexys Stanley,
Regulatory Affairs Analyst.

The following have been designated as members of the Fiscal Year 2021 Performance Review Board of the U.S. Office of Personnel Management:

Anne Harkavy, Chief of Staff, Chair

Lynn Eisenburg, General Counsel

David Padrino, Director for Human Capital Data Management & Modernization

Dennis Coleman, Chief Management Officer

Tyshawn Thomas, Chief Human Capital Officer

Laurie Bodenheimer, Associate Director for Healthcare and Insurance

Robert Shriver, Associate Director of Employee Services

Reid Hilliard, Director of Facilities, Security, and Emergency Management

Rita Sampson, Director, Office of Diversity, Equity, Inclusion, and Accessibility

[FR Doc. 2021-24491 Filed 11-8-21; 8:45 am]

BILLING CODE 6325-45-P